DEPARTMENT OF ENERGY

Federal Energy Regulatory Commission

[Docket No. GT01-25-000]

ANR Gas Pipeline Company; Notice of Service Agreement

June 5, 2001.

Take notice that on May 30, 2001, ANR Pipeline Company (ANR) filed a service agreement entered into between ANR and Allerton Gas Company (Allerton) under Rate Schedule FTS-1 (the Agreement).

ANR requests that the Commission find that the Agreement does not contain any material deviations from ANR's Form of Service Agreement, and that the Agreement need not be filed pursuant to section 154.112(b) of the Commission's regulations. Alternatively, ANR requests that if the Commission finds that the Agreement contains a material deviation from ANR's Form of Service Agreement, ANR requests that the Commission approve the Agreement and accept Tenth Revised Sheet No. 2, Fourth Revised Sheet No. 190 and Original Sheet No. 191 of ANR's Second Revised Volume No. 1 Tariff that reference the Agreement as a non-conforming agreement. ANR requests an effective date of June 1, 2001 for the Agreement.

Any person desiring to be heard or to protest said filing should file a motion to intervene or a protest with the Federal Energy Regulatory Commission, 888 First Street, NE., Washington, DC 20426, in accordance with sections 385.214 or 385.211 of the Commission's Rules and Regulations. All such motions or protests must be filed on or before June 12, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14557 Filed 6-8-01; 8:45 am]

BILLING CODE 6717-01-M